DEPARTMENT OF STATE

[Public Notice: 12234]

Department of State Performance Review Board Members

ACTION: Notice of members for the Performance Review Board.

SUMMARY: The Department of State (DOS) announces the persons who will serve on the Senior Executive Service 2023 Performance Review Board.

DATES: This appointment is effective October 2, 2023.

FOR FURTHER INFORMATION CONTACT: Patricia Wai, Deputy Director Bureau of Global Talent Management, Division of Civil Service Talent Management, Department of State, 2401 E Street NW, Washington, DC 20037, 202-663-2147.

SUPPLEMENTARY INFORMATION: This action is being taken in accordance with title 5, U.S.C., section 4314 (c)(4), which requires that members of performance review boards be appointed in a manner to ensure consistency, stability, and objectivity in performance appraisals and requires that notice of the appointment of an individual to serve as a member be published in the Federal Register.

The membership of the Department of State Performance Review Board is as follows:

Sherry Hannah—Chair

Anne Joyce

Jeanne Juliao

Eric Stein

Roland deMarcellus

Jeremy Bernton

Suzanne George

Mark Iozzi

Kim R. Bruner,
Director, Bureau of Global Talent Management, Civil Service Talent Management, Department of State.

[FR Doc. 2023-23397 Filed 10-23-23; 8:45 am]

BILLING CODE 4710-15-P